DEPARTMENT OF TRANSPORTATION

Federal Highway Administration

Notice of Final Federal Agency Actions on Proposed Highway in Alaska

AGENCY: Federal Highway Administration (FHWA), DOT.

ACTION: Notice of Limitation on Claims for Judicial Review of Actions by the U.S. Army Corps of Engineers (USACE), DoD, and other Federal Agencies.

SUMMARY: This notice announces actions taken by the USACE and other Federal agencies that are final within the meaning of 23 U.S.C. 139(l)(1). The actions relate to a proposed highway project, the East Lynn Canal Highway, Alaska Route Number 7, from Echo Cove to Katz Point in the Haines and Juneau Boroughs, State of Alaska. Those actions grant a permit and approvals for the project.

DATES: By this notice, the FHWA is advising the public of final agency actions subject to 23 U.S.C. 139(l)(1). A claim seeking judicial review of the Federal agency actions that are covered by this notice will be barred unless the claim is filed on or before December 29, 2008. If the Federal law that authorizes judicial review of a claim provides a time period of less than 180 days for filing such claim, then that shorter time period still applies.

FOR FURTHER INFORMATION CONTACT: Tim Haugh, Environmental and Right-of-Way Programs Manager, FHWA Alaska Division, P.O. Box 21648, Juneau, Alaska 99802-1648; office hours 7 a.m.-4:30 p.m. (AST), phone (907)586-7418; e-mail Tim.Haugh@fhwa.dot.gov. You may also contact Reuben Yost, Special Projects Manager, Alaska Department of Transportation and Public Facilities (DOT&PF), 6860 Glacier Highway, P.O. Box 112506, Juneau, Alaska 99811-2506; office hours 8am-5pm (AST), phone (907)465-1774, e-mail Reuben.Yost@alaska.gov.

SUPPLEMENTARY INFORMATION: On April 27, 2006, the FHWA published a “Notice of Final Federal Agency Actions on Proposed Highway in Alaska” in the Federal Register at Volume 71, Number 81 for the following project: FHWA Alaska Division Project Number STP-000S(131) titled the Juneau Access Improvements Project, involving construction of approximately 51 miles of two lane highway from the end of Glacier Highway at Echo Cove in the City and Borough of Juneau to a point two miles north of the Katzehin River in the Haines Borough. A ferry terminal will be constructed at the north end of the highway, and new shuttle ferries will be constructed to run from Haines and Skagway. Three major rivers will be bridged as well as several streams. A Final Environmental Impact Statement (FEIS) for the project was approved on January 18, 2006; the FHWA Record of Decision (ROD) was issued on April 3, 2006. Notice is hereby given that, subsequent to the earlier FHWA notice, the USACE has taken final agency actions within the meaning of 23 U.S.C. 139(I)(1) by issuing a permit and approvals for the highway project. The actions by the USACE, related final actions by other Federal agencies, and the laws under which such actions were taken, are described in the USACE decision and its administrative record for the project, referenced as POA-2006-597-2, Lynn Canal. The permit and decision document is available by contacting DOT&PF at the address above.

The FEIS, ROD, and other documents in the FHWA administrative record file are available by contacting the FHWA or the DOT&PF at the addresses provided above. The FHWA FEIS and ROD can be viewed and downloaded from the project Web site at http://dot.alaska.gov/juneauaccess or viewed at public libraries in the project area. The USACE decision can be viewed and downloaded at the same project Web site.

This notice applies to all USACE and other Federal agency decisions taken after the issuance date of the FHWA Federal Notice described above. The laws under which actions were taken, include but are not limited to:

1. Clean Water Act, 33 U.S.C. 1251-1377 (Section 404, Section 401, Section 319).

2. Rivers and Harbors Act of 1899, 33 U.S.C. 401-406.

(Catalog of Federal Domestic Assistance Program Number 20.205, Highway Planning and Construction. The regulations implementing Executive Order 12372 regarding intergovernmental consultation on Federal programs and activities apply to this program.)

Authority: 23 U.S.C. 139(l)(1).

Issued on: June 25, 2008.
David C. Miller,
Division Administrator, Juneau, Alaska.

[FR Doc. E8-14962 Filed 7-1-08; 8:45 am]

BILLING CODE 4910-22-P